DEPARTMENT OF AGRICULTURE

Animal and Plant Health Inspection Service

[Docket No. APHIS-2009-0038]

Notice of Request for Approval of an Information Collection; National Animal Health Monitoring System; Catfish 2010 Study

AGENCY: Animal and Plant Health Inspection Service, USDA.

ACTION: New information collection; comment request.

SUMMARY: In accordance with the Paperwork Reduction Act of 1995, this notice announces the Animal and Plant Health Inspection Service's intention to initiate an information collection to support the National Animal Health Monitoring System Catfish 2010 Study.

DATES: We will consider all comments that we receive on or before August 24, 2009.

ADDRESSES: You may submit comments by either of the following methods:

• Federal eRulemaking Portal: Go to http://www.regulations.gov/fdmspublic/component/main?main=DocketDetail&d=APHIS-2009-0038 to submit or view comments and to view supporting and related materials available electronically.

• Postal Mail/Commercial Delivery: Please send two copies of your comment to Docket No. APHIS-2009-0038, Regulatory Analysis and Development, PPD, APHIS, Station 3A-03.8, 4700 River Road, Unit 118, Riverdale, MD 20737-1238. Please state that your comment refers to Docket No. APHIS-2009-0038.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Catfish 2010 Study, contact Ms. Sandra Warnken, Management and Program Analyst, Centers for Epidemiology and Animal Health, VS, APHIS, 2150 Centre Avenue, Building B MS 2E3, Fort Collins, CO 80526; (970) 494-7193. For copies of more detailed information on the information collection, contact Mrs. Celeste Sickles, APHIS' Information Collection Coordinator, at (301) 851-2908.

SUPPLEMENTARY INFORMATION: Title: National Animal Health Monitoring System; Catfish 2010 Study.

OMB Number: 0579-xxxx.

Type of Request: Approval of a new information collection.

Abstract: Under the Animal Health Protection Act (7 U.S.C. 8301 et seq.), the Animal and Plant Health Inspection Service (APHIS) of the United States Department of Agriculture (USDA) is authorized, among other things, to protect the health of our Nation's livestock and poultry populations by preventing the introduction and interstate spread of serious diseases and pests of livestock and for eradicating such diseases from the United States when feasible. In connection with this mission, APHIS operates the National Animal Health Monitoring System (NAHMS), which collects nationally representative, statistically valid, and scientifically sound data on the prevalence and economic importance of livestock diseases and associated risk factors.

NAHMS' national studies have evolved into a collaborative industry and government initiative to help determine the most effective means of preventing and controlling diseases of livestock, including farm-raised fish. APHIS is the only agency responsible for collecting data on aquaculture health. Participation in any NAHMS study is voluntary, and all data are confidential.

APHIS plans to conduct the Catfish 2010 study (Catfish 2010) as part of an ongoing series of NAHMS studies on the U.S. aquaculture population. The purpose of Catfish 2010 is to support the catfish farming industry by providing current information on production methods and catfish health status. The study includes objectives to:

• Describe foodsize fish production practices, including stocking, feeding, pond management, and general practices.

• Examine fingerling production practices, including brood stock management, hatchery management, vaccination practices, fingerling pond management, and stocking and feeding practices.

• Describe the prevalence of disease problems in fingerling and foodsize fish, disease control and treatment practices, and risk factors associated with disease.

• Develop baseline information on the use of hybrid channel x blue catfish production by the industry.

• Evaluate trends in foodsize fish and fingerling management practices from 2003 to 2010.

Catfish 2010 will take place on farms in Alabama, Arkansas, Louisiana, and Mississippi, which account for 91.6 percent of 2008 total catfish sales and 90.9 percent of the water surface acres for catfish production (National Agricultural Statistics Service, USDA, Catfish Production Report, January 2009). The type, quantity, and frequency of data collected by NAHMS through this study are unique in the United States. A comparable study of the catfish industry was conducted by NAHMS in 2003. No other entity/source is collecting and analyzing data on the health of the U.S. catfish industry. The potential benefits to the industry from Catfish 2010 include increased production through enhanced pond management and increased consumer confidence in quality through disease reduction.

Information from this study will be disseminated to and used by aquaculture producers, animal health officials, private veterinary practitioners, animal industry groups, policymakers, public health officials, multimedia, educational institutions, and others to improve aquaculture productivity and competitiveness.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.4103174 hours per response.

Respondents: Aquaculture industry personnel and company and independent producers.

Estimated annual number of respondents: 700.

Estimated annual number of responses per respondent: 1.8.

Estimated annual number of responses: 1,260.

Estimated total annual burden on respondents: 517 hours. (Due to averaging, the total annual burden hours may not equal the product of the annual number of responses multiplied by the reporting burden per response.)

All responses to this notice will be summarized and included in the request for OMB approval. All comments will also become a matter of public record.

Done in Washington, DC, this 17th day of June 2009.
Kevin Shea,
Acting Administrator, Animal and Plant Health Inspection Service.

[FR Doc. E9-14717 Filed 6-22-09; 8:45 am]

BILLING CODE 3410-34-P